DEPARTMENT OF COMMERCE

National Oceanic and Atmospheric Administration

[I.D. 110802B]

Fisheries of the Caribbean, Gulf of Mexico, and South Atlantic; Coral, Golden Crab, Shrimp, Spiny Lobster, Red Drum, Coastal Migratory Pelagic Resources, and Snapper-Grouper Fisheries of the South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Mr. Steve Vogel III, Curator, South Carolina Aquarium on behalf of the South Carolina Aquarium (applicant), Charleston, South Carolina. If granted, the EFP would authorize the applicant, with certain conditions, to collect an average of 25 specimens each of numerous species of marine invertebrates and marine fish from Federal waters off South Carolina for public display. This EFP would replace a former EFP which expires on December 31, 2002.

DATES: Comments must be received no later than 5 p.m., eastern standard time, on December 23, 2002.

ADDRESSES: Comments on the application must be mailed to Peter Eldridge, Southeast Regional Office, NMFS, 9721 Executive Center Drive N., St. Petersburg, FL 33702. Comments also may be sent via fax to 727-570-5583. Comments will not be accepted if submitted via e-mail or Internet.

The application and related documents are available for review upon written request to the address listed here.

FOR FURTHER INFORMATION CONTACT: Peter Eldridge, 727-570-5305; fax 727-570-5583; e-mail: peter.eldridge@noaa.gov.

SUPPLEMENTARY INFORMATION: The EFP is requested under the authority of the Magnuson-Stevens Fishery Conservation and Management Act (16 U.S.C. 1801 et seq.), and regulations at 50 CFR 600.745(b), concerning scientific research activity, exempted fishing permits, and exempted educational activity.

According to the applicant, the South Carolina Aquarium (SCA), located in Charleston, is a public, non-profit, self-supporting institution devoted to the understanding and conservation of South Carolina's natural aquatic habitats and is a major educational and conservation institution with free admission to school children in groups, and extensive field study and outreach programs. The specimens will be maintained in the SCA for public display.

The applicant intends, over a period of 2 years, to collect for public display an average of 25 specimens each of 76 species of marine invertebrates and 221 species of marine fish from Federal waters off South Carolina, using a variety of fishing gears and the fish anesthetic, quinaldine.

The proposed collection for public display involves activities otherwise prohibited by regulations implementing the Fishery Management Plans for Coral, Coral Reefs, and Live/Hard Bottom Habitats, Golden Crab, Shrimp, Spiny Lobster, Red Drum, Coastal Migratory Pelagics, Calico Scallop, and Snapper-Grouper Fisheries of the South Atlantic Region (FMPs). The applicant requires authorization to harvest and possess corals, live rock, golden crab, rock shrimp, red drum, wreckfish, Nassau grouper, warsaw grouper, and jewfish taken from Federal waters off South Carolina. In addition, authorization is required to use quinaldine in a coral area and to possess spiny lobster, bluefish, cobia, king and Spanish mackerel, groupers and snappers, greater amberjack, hogfish and red porgy below the minimum size limit, in excess of established bag limits, or taken with prohibited gear.

The applicant also intends to collect a large number of species that are either not subject to Federal fishery management in the South Atlantic Region or are included under a fishery management plan that contains no management measures restricting possession or harvest. The applicant was referred to the Highly Migratory Species Division for authorization to collect highly migratory species such as sharks and tunas for public display.

Based on a preliminary review, NMFS finds that this application warrants further consideration and intends to issue an EFP. A final decision on issuance of the EFP will depend on a NMFS review of public comments received on the application, conclusions of environmental analyses conducted pursuant to the National Environmental Policy Act, and consultations with South Carolina, the South Atlantic Fishery Management Council, and the U.S. Coast Guard. The applicant requests a 24-month effective period for the EFP.

Authority: 16 U.S.C. 1801 et seq.

Dated: November 15, 2002.
Bruce C. Morehead,
Acting Director, Office of Sustainable Fisheries, National Marine Fisheries Service.

[FR Doc. 02-29684 Filed 11-20-02; 8:45 am]

BILLING CODE 3510-22-S